DEPARTMENT OF HEALTH AND HUMAN SERVICES

Health Resources and Service Administration

Advisory Commission on Childhood Vaccines

AGENCY: Health Resources and Service Administration (HRSA), Department of Health and Human Services (HHS).

ACTION: Notice of meeting.

SUMMARY: In accordance with the Federal Advisory Committee Act, notice is hereby given that a meeting is scheduled for the Advisory Commission on Childhood Vaccines (ACCV). This meeting will be open to the public. Information about the ACCV and the agenda for this meeting can be obtained by accessing the following website: http://www.hrsa.gov/advisorycommittees/childhoodvaccines/index.html.

DATES: The meeting will be held on March 8, 2018, at 10:00 a.m. ET.

ADDRESSES: This meeting will be held via Adobe Connect meeting and conference call. This is not an in-person meeting. The public can join the meeting by:

1. (Audio Portion) Calling the conference phone number (800) 988-0218 and providing the following information:

Leader Name: Dr. Narayan Nair.

Password: 9302948.

2. (Visual Portion) Connecting to the ACCV Adobe Connect Meeting using the following URL: https://hrsa.connectsolutions.com/accv/. Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview.

FOR FURTHER INFORMATION CONTACT: Anyone requesting information regarding the ACCV should contact Annie Herzog, Program Analyst, Division of Injury Compensation Programs (DICP), HRSA in one of three ways: (1) Send a request to the following address: Annie Herzog, Program Analyst, DICP, HRSA, 5600 Fishers Lane, 08N146B, Rockville, Maryland 20857; (2) call (301) 443-6593; or (3) send an email to aherzog@hrsa.gov.

The ACCV will meet on Thursday, March 8, 2018, beginning at 10:00 a.m. via Adobe Connect Meeting; however, meeting times and information to join the meeting and/or conference call could change. For the latest information regarding meeting start time and information to join the meeting and/or conference call, please check the ACCV website: http://www.hrsa.gov/advisorycommittees/childhoodvaccines/index.html.

SUPPLEMENTARY INFORMATION: The ACCV was established by section 2119 of the Public Health Service Act (the Act) (42 U.S.C. 300aa-19), as enacted by Public Law (Pub. L.) 99-660, and as subsequently amended, and advises the Secretary of HHS (the Secretary) on issues related to implementation of the National Vaccine Injury Compensation Program (VICP).

Other activities of the ACCV include: Recommending changes to the Vaccine Injury Table at its own initiative or as the result of the filing of a petition; advising the Secretary in implementing section 2127 of the Act regarding the need for childhood vaccination products that result in fewer or no significant adverse reactions; surveying federal, state, and local programs and activities related to gathering information on injuries associated with the administration of childhood vaccines, including the adverse reaction reporting requirements of section 2125(b) of the Act; advising the Secretary on the methods of obtaining, compiling, publishing, and using credible data related to the frequency and severity of adverse reactions associated with childhood vaccines; consulting on the development or revision of Vaccine Information Statements; and, recommending to the Director of the National Vaccine Program research related to vaccine injuries which should be conducted to carry out the VICP.

The agenda items for the March 8, 2018, meeting will include, but are not limited to, updates from DICP, Department of Justice (DOJ), National Vaccine Program Office (NVPO), Immunization Safety Office (Centers for Disease Control and Prevention), National Institute of Allergy and Infectious Diseases (National Institutes of Health) and Center for Biologics, Evaluation and Research (Food and Drug Administration). A draft agenda and additional meeting materials will be posted on the ACCV website: http://www.hrsa.gov/advisorycommittees/childhoodvaccines/index.html prior to the meeting. Agenda items are subject to change as priorities dictate.

Members of the public will have the opportunity to provide comments. Oral comments will be honored in the order they are requested and may be limited as time allows. Requests to make oral comments or provide written comments to the ACCV should be sent to Annie Herzog by March 5, 2018, using the address and phone number above. Individuals who plan to participate and need special assistance, such as sign language interpretation or other reasonable accommodations, should notify Annie Herzog, using the address and phone number above at least 10 days prior to the meeting.

Amy McNulty,
Acting Director, Division of the Executive Secretariat.

[FR Doc. 2018-03812 Filed 2-23-18; 8:45 am]

BILLING CODE 4165-15-P